NUCLEAR REGULATORY COMMISSION

Sunshine Federal Register Notice

Agency Holding the Meetings: Nuclear Regulatory Commission.

Date: Week of July 21, 2008.

Place: Commissioners' Conference Room, 11555 Rockville Pike, Rockville, Maryland.

Status: Public and Closed.

Additional Items to be Considered:

Week of July 21, 2008—Tentative

Wednesday, July 23, 2008

1:25 p.m.

Affirmation Session (Public Meeting) (Tentative).

a. U.S. Department of Energy (High Level Waste Repository)—Petitions of the State of Nevada and Dr. Jacob Paz to Reject the Department of Energy's (DOE) Application to Construct a Geologic Repository at Yucca Mountain, Nevada (Tentative).

b. Progress Energy Carolinas Inc. (Shearon Harris Nuclear Power Plant, Units 2 and 3)—Motion by the North Carolina Waste Awareness and Reduction Network (NC WARN) to Immediately Suspend the Hearing Notice and Request for Expedited Consideration (Tentative).

* The schedule for Commission meetings is subject to change on short notice. To verify the status of meetings, call (recording)—(301) 415-1292. Contact person for more information: Michelle Schroll, (301) 415-1662.

The NRC Commission Meeting Schedule can be found on the Internet at: http://www.nrc.gov/about-nrc/policy-making/schedule.html.

The NRC provides reasonable accommodation to individuals with disabilities where appropriate. If you need a reasonable accommodation to participate in these public meetings, or need this meeting notice or the transcript or other information from the public meetings in another format (e.g., braille, large print), please notify the NRC's Disability Program Coordinator, Rohn Brown, at 301-492-2279, TDD: 301-415-2100, or by e-mail at REB3@nrc.gov. Determinations on requests for reasonable accommodation will be made on a case-by-case basis.

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: July 15, 2008.
R. Michelle Schroll,
Office of the Secretary.

[FR Doc. 08-1446 Filed 7-16-08; 10:33 am]

BILLING CODE 7590-01-P